DEPARTMENT OF HOMELAND SECURITY

Federal Emergency Management Agency

[Docket ID FEMA-2022-0053; OMB No. 1660-0107]

Agency Information Collection Activities: Proposed Collection; Comment Request; FEMA Public Assistance Program Customer Satisfaction Survey

AGENCY: Federal Emergency Management Agency, Department of Homeland Security.

ACTION: 60 Day Notice of Revision and Request for Comments.

SUMMARY: The Federal Emergency Management Agency (FEMA), as part of its continuing effort to reduce paperwork and respondent burden, invites the general public to take this opportunity to comment on an extension, with change, of a currently approved information collection. In accordance with the Paperwork Reduction Act of 1995, this notice seeks comments concerning the collection of Public Assistance customer satisfaction survey responses and information for assessment and improvement of the delivery of disaster assistance to States, Local and Tribal governments, and eligible non-profit organizations.

DATES: Comments must be submitted on or before February 7, 2023.

ADDRESSES: Please submit comments at www.regulations.gov under Docket ID FEMA-2022-0053. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Jason Salazar, Program Analyst, Recovery Directorate, Jason.Salazar@FEMA.dhs.gov, 940.268.9245. You may contact the Information Management Division for copies of the proposed collection of information at email address: FEMA-Information-Collections-Management@fema.dhs.gov.

SUPPLEMENTARY INFORMATION: This collection is in accordance with Executive Orders 12862 and 13571 requiring all Federal agencies to survey customers to determine the kind and quality of services they want and their level of satisfaction with existing services. The Government Performance and Results Act of 1993 (GPRA) requires Federal agencies to set missions and goals and to measure agency performance against them. See Public Law 103-62, 107 Stat 285 (1993). The GPRA Modernization Act of 2010 requires quarterly performance assessments of government programs for the purposes of assessing agency performance and improvement. See Public Law 111-352, 124 Stat 3875 (2011). FEMA fulfills these requirements by collecting customer satisfaction program information through surveys of States, Local and Tribal governments, and eligible non-profit organizations.

Collection of Information

Title: FEMA Public Assistance Program Customer Satisfaction Survey.

Type of Information Collection: Revision of a currently approved information collection.

OMB Number: 1660-0107.

FEMA Forms: FEMA Form FF-104-FY-21-155 (formerly 519-0-32), Public Assistance Initial Customer Satisfaction Survey (Telephone); FEMA Form FF-104-FY-21-156 (formerly 519-0-33), Public Assistance Initial Customer Satisfaction Survey (internet); FEMA Form FF-104-FY-21-157 (formerly 519-0-34), Public Assistance Assessment Customer Satisfaction Survey (Telephone); FEMA Form FF-104-FY-21-158 (formerly 519-0-35), Public Assistance Assessment Customer Satisfaction Survey (internet); FEMA Manual FM-104-FY-22-102, Customer Survey and Analysis Qualitative Research Protocol.

Abstract: Federal agencies are required to survey their customers to determine the kind and quality of services customers want and their level of satisfaction with those services. The FEMA Public Assistance Customer Satisfaction Surveys are used to monitor program performance and assess service delivery. Survey results are used to ensure the Agency is meeting the needs of FEMA applicants.

Affected Public: Not-for-profit institutions, State, Local or Tribal Government.

Estimated Number of Respondents: 3,885.

Estimated Number of Responses: 3,885.

Estimated Total Annual Burden Hours: 1,839.

Estimated Total Annual Respondent Cost: $86,459.

Estimated Respondents' Operation and Maintenance Costs: $0.

Estimated Respondents' Capital and Start-Up Costs: $13,500.

Estimated Total Annual Cost to the Federal Government: $862,324.

Comments

Comments may be submitted as indicated in the ADDRESS caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-26784 Filed 12-8-22; 8:45 am]

BILLING CODE 9111-24-P